ENVIRONMENTAL PROTECTION AGENCY

[Regional Docket Nos. V-2011-1, FRL9717-8]

Clean Air Act Operating Permit Program; Action on Petition for Objection to State Operating Permit for Georgia-Pacific Consumer Products

AGENCY: Environmental Protection Agency (EPA).

ACTION: Notice of final Order on petition to object to Clean Air Act (Act) Title V operating permit.

SUMMARY: This document announces that the EPA Administrator has denied a petition from the Sierra Club, the Clean Water Action Council and the Midwest Environmental Defense Center asking EPA to object to a Title V operating permit issued by the Wisconsin Department of Natural Resources (WDNR) to Georgia-Pacific Consumer Products (Georgia-Pacific).

Sections 307(b) and 505(b)(2) of the Act provide that a petitioner may ask for judicial review of those portions of the petition which EPA denies in the United States Court of Appeals for the appropriate circuit. Any petition for review shall be filed within 60 days from the date this notice appears in the Federal Register, pursuant to section 307 of the Act.

ADDRESSES: You may review copies of the final Order, the petition, and other supporting information at the EPA Region 5 Office, 77 West Jackson Boulevard, Chicago, Illinois 60604. If you wish to examine these documents, you should make an appointment at least 24 hours before visiting day. Additionally, the final Order for the Georgia-Pacific petition is available electronically at: http://www.epa.gov/region7/air/title5/petitiondb/petitiondb.htm.

FOR FURTHER INFORMATION CONTACT: Genevieve Damico, Chief, Air Permits Section, Air Programs Branch, Air and Radiation Division, EPA, Region 5, 77 West Jackson Boulevard, Chicago, Illinois 60604, telephone (312) 353-4761.

SUPPLEMENTARY INFORMATION: The Act affords EPA a 45-day period to review and object, as appropriate, to Title V operating permits proposed by state permitting authorities. Section 505(b)(2) of the Act authorizes any person to petition the EPA Administrator within 60 days after the expiration of the EPA review period to object to a Title V operating permit if EPA has not done so. A petition must be based only on objections to the permit that were raised with reasonable specificity during the public comment period provided by the state, unless the petitioner demonstrates that it was impracticable to raise issues during the comment period, or the grounds for the issues arose after this period.

On July 23, 2011, EPA received a petition from the Sierra Club, the Clean Water Action Council and the Midwest Environmental Defense Center (Petitioners) requesting that EPA object to the Title V operating permit for Georgia-Pacific. The Petitioners alleged that the permit is not in compliance with the requirements of the Act. Specifically, the Petitioners alleged that: (1) The permit lacks applicable prevention of significant deterioration (PSD) requirements because WDNR erroneously exempted as “routine maintenance, repair, and replacement” projects that resulted in a significant net emissions increase based on the applicable “actual to potential” emissions test; (2) the permit lacks applicable PSD and new source performance standard requirements that were triggered through non-exempt fuel switching and WDNR improperly deferred addressing this issue; and, (3) the permit lacks applicable requirements ensuring protection of air quality increments which apply pursuant to the Wisconsin state implementation plan and the PSD programs.

On July 23, 2012, the Administrator issued an Order denying the petition. The Order explains the reasons behind EPA's conclusion.

Dated: July 27, 2012.
Susan Hedman,
Regional Administrator, Region 5.

[FR Doc. 2012-20519 Filed 8-20-12; 8:45 am]

BILLING CODE 6560-50-P